DEPARTMENT OF TRANSPORTATION

Federal Railroad Administration

[Docket No. FRA-1999-6404]

Extension of Comment Period; Petition for Grandfathering of Non-Compliant Equipment; National Railroad Passenger Corporation

On October 18, 1999, the National Railroad Passenger Corporation (Amtrak) petitioned the Federal Railroad Administration (FRA) for grandfathering of non-compliant passenger equipment manufactured by Renfe Talgo of America (Talgo) for use on rail lines between Vancouver, British Columbia and Eugene, Oregon; between Las Vegas, Nevada and Los Angeles, California; and between San Diego, California and San Luis Obispo, California. Notice of receipt of such petition was published in the Federal Register on November 2, 1999, at 64 FR 59230. Interested parties were invited to comment on the petition before the end of the comment period of December 2, 1999.

Through published notice in the Federal Register, FRA has extended the comment period in this proceeding and explained the reasons therefor. FRA most recently extended the comment period until January 31, 2000. See 65 FR 2223; Jan. 13, 2000. By this notice, FRA is further extending the comment period until February 22, 2000. This extension will allow FRA to resolve an ongoing Freedom of Information Act (FOIA) request for information related to this proceeding, see 65 FR 2223, and permit the requester sufficient time in which to analyze any further documents that may be released by FRA. FRA will place in the docket a copy of any documents provided to the FOIA requester. FRA expects that further extensions of the comment period will not be necessary.

Comments received after February 22, 2000, will be considered to the extent possible. Amtrak's petition, documents inserted in the docket, and all written communications concerning this proceeding are available for examination during regular business hours (9:00 a.m. to 5:00 p.m.) at DOT Central Docket Management Facility, Room PL-401 (Plaza Level), 400 Seventh, SW, Washington, DC 20590-0001. All documents in the public docket are also available for inspection and copying on the Internet at the docket facility's Web site at http://dms.dot.gov.

Issued in Washington, D. C. on January 28, 2000.
Grady C. Cothen, Jr.,
Deputy Associate Administrator for Safety Standards and Program Development.

[FR Doc. 00-2551 Filed 2-3-00; 8:45 am]

BILLING CODE 4910-06-P